ENVIRONMENTAL PROTECTION AGENCY

[FRL-9169-5]

Notice of Data Availability Concerning 2010 CAIR NOX Annual Trading Program New Unit Set-aside Allowance Allocations Under the Clean Air Interstate Rule Federal Implementation Plan

AGENCY: Environmental Protection Agency (EPA).

ACTION: Notice of data availability (NODA).

SUMMARY: EPA is administering—under the Clean Air Interstate Rule (CAIR) Federal Implementation Plans (FIPs)—the CAIR NOX Annual Trading Program (CAIRNOX) new unit set-aside allowance pools for Delaware and the District of Columbia. The CAIRNOX FIPs require the Administrator to determine each year by order the allowance allocations from the new unit set-aside for units in these jurisdictions whose owners and operators requested these allocations and to provide the public with the opportunity to object to the allocation determinations. In this NODA EPA is making available to the public the emissions data and other information upon which the allocations, or denial of allocations, are based and the CAIRNOX new unit set-aside allowance allocation (if any) for each individual unit.

DATES: Objections must be received by July 29, 2010.

ADDRESSES: Submit your objections by one of the following methods:

A. E-mail: CAIR_NOx_Annual_NUSA@epamail.epa.gov.

B. Mail: Robert L. Miller, U.S. Environmental Protection Agency, CAMD (6204J), Attn: 2010 CAIRNOX New Unit Set-aside, 1200 Pennsylvania Ave., NW., Washington, DC 20460.

Instructions: If you submit an objection, include your name and other contact information in the body of your objection. If EPA is unable to read your objection and contact you for clarification due to technical difficulties, EPA may not be able to consider your objection. Electronic files should not have special characters and any form of encryption and should be free of any defects or viruses.

FOR FURTHER INFORMATION CONTACT: Questions concerning this action should be addressed to Robert L. Miller, U.S. Environmental Protection Agency, CAMD (6204J), 1200 Pennsylvania Ave., NW., Washington, DC 20460, telephone (202) 343-9077, and e-mail miller.robertl@epa.gov. If mailing by courier, address package to Robert L. Miller, 1310 L St., NW., Room 254B, Washington, DC 20005.

SUPPLEMENTARY INFORMATION:

Outline

1. General Information.

2. What is the Purpose of this NODA?

3. What are the Requirements and Procedures for Requesting and Receiving 2010 CAIRNOX New Unit Set-Aside Allowances?

4. How is EPA Applying to Individual CAIRNOX Units the Requirements for Requesting and Receiving 2010 CAIRNOX New Unit Set-Aside Allowance Allocations?

1. General Information

Does this Action Apply to Me?

This NODA applies to CAIRNOX units in Delaware and the District of Columbia whose owners and operators requested on or before May 3, 2010 a 2010 CAIRNOX allowance allocation from the new unit set-aside.

What Should I Consider as I Prepare and Submit any Objections for EPA?

When preparing and submitting an objection, remember to:

(1) Identify the source (facility name, plant code) and unit identification number for which the objection is being made;

(2) Make sure to submit your objection by the deadline identified.

If you e-mail your objection, put “Objection for 2010 CAIRNOX New Unit Set-aside” in the subject line to alert the Administrator that an objection is included. If mailing by courier, address the package to Robert L. Miller, 1310 L St., NW., Room 254B, Washington, DC 20005. Clearly mark any portion of the information that you claim to be CBI. For CBI in a disk or CD ROM that you mail to EPA, mark the outside of the disk or CD ROM as CBI and then identify electronically within the disk or CD ROM the specific information that is claimed as CBI. Information so marked will not be disclosed except in accordance with procedures set forth in 40 CFR part 2. Send or deliver information identified as CBI only to the following address: Robert L. Miller, EPA Headquarters, CAMD (6204J), 1200 Pennsylvania Avenue, NW., Washington DC 20460.

2. What Is the Purpose of This NODA?

The purpose of this NODA is to make all of the data upon which the allocations or denial of allocations are based available to the public for objection to ensure that the data on which the applicable determination for each unit is based are correct. Any person objecting to any of the data should explain the basis for his or her objection, provide alternative data and supporting documentation, and explain why the alternative data are the best available data. EPA will consider any substantive objections to the data.

The provisions of § 97.142(c)—which govern the submission of requests for CAIRNOX allowance allocations from the new unit set-aside and set forth the criteria for qualification for, and the methodologies for calculating, such allocations for each individual unit—are final and are described in this NODA solely for informational purposes and are not open for objection. However, objections may be submitted concerning whether EPA determined, in a manner consistent with these rule provisions, the CAIRNOX allowance allocation (if any) from the new unit set-aside for 2010 for any unit for which such an allowance allocation was requested. See 40 CFR 97.141(d).

3. What Are the Requirements for Requesting and Receiving CAIRNOX New Unit Set-Aside Allowances and the Procedures for Allocating Such Allowances?

EPA is administering the 2010 CAIRNOX new unit set-aside allowance pools for Delaware and the District of Columbia, which are comprised of a maximum of 208 allowances for Delaware and 7 allowances for the District of Columbia. Under §§ 97.142(c)(2) and 97.107(c), the owners and operators of any unit for which CAIRNOX new unit set-aside allowances were sought for 2010 had to submit to EPA a request for CAIRNOX new unit set-aside allowance allocations by May 3, 2010. Since May 1, which is the generally applicable submission date specified in § 97.142(c)(2), is Saturday this year, the submission deadline for 2010 is the next business day, i.e., May 3, under § 97.107(c). The owners and operators of a CAIRNOX unit in Delaware or the District of Columbia could request a CAIRNOX new unit set-aside allowance allocation if (1) the unit is subject to the CAIRNOX, (2) the unit is not allocated any CAIRNOX allowances under § 97.142(b) because it lacks a baseline heat input or because all CAIRNOX allowances available under § 97.142(b) for the year have already been allocated, and (3) the owners and operators of the unit submitted a timely request by the May 3, 2010 deadline. If a unit meets these criteria, EPA determines the allocation amount by determining the 2009 NOX mass emissions data reported under 40 CFR part 75 for the unit during the 2009 calendar year. Finally, EPA makes any necessary adjustments under § 97.142(c)(4) to each such unit's allocation amount in order to ensure that the total amount of CAIRNOX new unit set-aside allowances allocated for 2010 does not exceed the amount of allowances in the new unit set-aside for 2010.

4. How Is EPA Applying to Individual CAIRNOX Units the Requirements for Requesting and Receiving CAIRNOX New Unit Set-Aside Allowance Allocations?

On April 22, 2010 EPA sent an e-mail—to the designated representatives, alternate designated representatives, and their respective agents of CAIRNOX units in the District of Columbia and Delaware—that provided instructions on the proper submission of a request for a CAIRNOX allowance allocation from the new unit set-aside for 2010. The April 22, 2010 e-mail explained what data should be submitted with the request and reminded addressees of the May 3, 2010 deadline for such requests. Among the data elements for a request under § 97.142(c)(2) were the number of allowances requested in an amount no greater than the unit's NOX emissions for the 2009 calendar year. EPA received timely requests for 2010 CAIRNOX new unit set-aside allowance allocations for 10 CAIRNOX units in Delaware; no requests were received for CAIRNOX units in the District of Columbia.

The detailed unit-by-unit data, allowance allocation determinations, and calculations are set forth in a technical support document, which is a single Excel spreadsheet titled “2010 CAIRNOX FIP New Unit Set-Aside Allocations Data” and is available on EPA's Web site at http://www.epa.gov/airmarkets/cair/nox_annual_nusa/index.html. EPA will publish a second NODA, after the 30-day period for submitting objections concerning this NODA, in order to address any objections and make any necessary adjustments to the data published in this NODA to ensure that EPA's allowance allocation determinations are in accordance with § 97.142(c). EPA will record, no later than December 1, 2010, CAIRNOX allowance allocations from the new unit set-aside for 2010 after publication of the second NODA. See 40 CFR 97.153(e).

Dated: June 22, 2010.
Brian McLean,
Director, Office of Atmospheric Programs.

[FR Doc. 2010-15765 Filed 6-28-10; 8:45 am]

BILLING CODE 6560-50-P